ENVIRONMENTAL PROTECTION AGENCY

[RCRA-2004-0005; FRL-7841-2]

Agency Information Collection Activities; Submission to OMB for Review and Approval; Comment Request; Requirements and Exemptions for Specific RCRA Wastes (Renewal), EPA ICR Number 1597.06, OMB Control Number 2050-0145

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. This ICR is scheduled to expire on November 30, 2004. Under OMB regulations, the Agency may continue to conduct or sponsor the collection of information while this submission is pending at OMB. This ICR describes the nature of the information collection and its estimated burden and cost.

DATES: Additional comments may be submitted on or before December 27, 2004.

ADDRESSES: Submit your comments, referencing docket ID number RCRA-2004-0005, to (1) EPA online using EDOCKET (our preferred method), by e-mail to RCRA-docket@epa.gov, or by mail to: EPA Docket Center, Environmental Protection Agency, Resource Conservation and Recovery Act (RCRA) Docket, Mail Code 5305T, 1200 Pennsylvania Ave., NW., Washington, DC 20460, and (2) OMB at: Office of Information and Regulatory Affairs, Office of Management and Budget (OMB), Attention: Desk Officer for EPA, 725 17th Street, NW., Washington, DC 20503.

FOR FURTHER INFORMATION CONTACT: Tab Tesnau, Office of Solid Waste, Mail Code 5302W, Environmental Protection Agency, 1200 Pennsylvania Ave., NW., Washington, DC 20460; telephone number: 703-605-0636; fax number: 703-308-8617; e-mail address: tesnau.tab@epa.gov.

SUPPLEMENTARY INFORMATION: EPA has submitted the following ICR to OMB for review and approval according to the procedures prescribed in 5 CFR 1320.12. On April 26, 2004 (69 FR 22507), EPA sought comments on the “Storage, Treatment, and Disposal of Mixed Waste” ICR, and on June 25, 2004 (69 FR 35594), EPA sought comments on the “Reporting and Recordkeeping Requirements for Universal Waste Handlers and Destination Facilities'' ICR pursuant to 5 CFR 1320.8(d). EPA received no comments to either notice.

EPA has established a public docket for this ICR under Docket ID No. RCRA-2004-0005, which is available for public viewing at the RCRA Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the RCRA Docket is (202) 566-0270. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: Requirements and Exemptions for Specific RCRA Wastes (Renewal).

Abstract: In the 1976 Resource Conservation and Recovery Act (RCRA), as amended, Congress directs the U.S. Environmental Protection Agency (EPA) to develop and administer a comprehensive program for the safe management and disposal of hazardous waste. In 1980, EPA promulgated regulations in 40 CFR part 261-265 to comply with RCRA. EPA has since added to these regulations on many occasions. This ICR concerns two such additions. This ICR includes both the former “Reporting and Recordkeeping Requirements for Universal Waste Handlers and Destination Facilities'' ICR (EPA ICR Number 1597.04, OMB Control Number 2050-0145) and the “Storage, Treatment, and Disposal of Mixed Waste” ICR (EPA ICR Number 1922.02, OMB Control Number 2050-0181).

In 1995, EPA promulgated regulations in 40 CFR part 273 that govern the collection and management of widely-generated hazardous wastes known as “Universal Wastes”. Universal Wastes are wastes that are generated in non-industrial settings by a vast community, and are present in non-hazardous waste management systems. Examples of Universal Wastes include certain batteries, pesticides, mercury-containing lamps and thermostats. The part 273 regulations are designed to separate Universal Waste from the municipal wastestream by encouraging individuals and organizations to collect these wastes and to manage them in an appropriate hazardous waste management system. EPA distinguishes two types of handlers of Universal Wastes: Small quantity handlers of Universal Waste (SQHUW) and large quantity handlers of Universal Waste (LQHUW). SQHUWs do not accumulate more than 5,000 kg of any one category of Universal Waste at one time, while LQHUWs may accumulate quantities at or above this threshold. More stringent requirements are imposed on LQHUWs because of greater potential environmental risks.

In 2001, EPA promulgated regulations in 40 CFR part 266 that provide increased flexibility to facilities managing wastes commonly known as “Mixed Waste”. Mixed Waste are low-level mixed waste (LLMW), and naturally occurring and/or accelerator-produced radioactive material (NARM) containing hazardous waste. These wastes are also regulated by the Atomic Energy Act. As long as specified eligibility criteria and conditions are met, LLMW and NARM are exempt from the definition of hazardous waste as defined in part 261. Although these eligible wastes are exempted from RCRA manifest, transportation, and disposal requirements, they must still comply with the manifest, transportation, and disposal requirements under the NRC (or NRC-Agreement State) regulations. There are two conditional exemptions. The Storage and Treatment Conditional Exemption applies to any generator of LLMW who is licensed by NRC or an NRC Agreement State to manage radioactive materials. This exemption is available only to LLMW generated under a single NRC or NRC Agreement State license. LLMW generators must notify EPA of the LLMW storage units for which they are claiming an exemption, and must meet the conditions listed in section 266.230. This exemption is valid as long as the Mixed Waste meets the conditions, remains in a conditionally exempt storage unit, and is subject to NRC regulation.

The Transportation and Disposal Conditional Exemption from the definition of hazardous waste applies to generators and treaters who send their treated waste to a commercial low-level radioactive waste disposal facility (LLRWDF) licensed by NRC or NRC Agreement State. The eligible LLMW or NARM waste would be exempted from RCRA Subtitle C once it is placed on the transportation vehicle bound for disposal at the LLRWDF. The waste could then be transported to the LLRWDF as strictly radioactive waste using an NRC Uniform LLW Manifest. Generators and treaters under the exemption must undertake the information collection requirements listed in section 266.345.

An agency may not conduct or sponsor, and a person is not required to respond to, a collection of information unless it displays a currently valid OMB control number. The OMB control numbers for EPA's regulations in 40 CFR are listed in 40 CFR part 9 and are identified on the form and/or instrument, if applicable.

Burden Statement: The annual public reporting and recordkeeping burden for this collection of information is estimated to average 2 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Business, farms, State, Local, or Tribal Governments.

Estimated Number of Respondents: 119,782.

Frequency of Response: On occasion.

Estimated Total Annual Hour Burden: 185,967.

Estimated Total Annual Cost: $10,730,000, includes $2,000 annual startup/capital costs, $1,000 annual O&M costs and $10,727,000 annual labor costs.

Changes in the Estimates: There is a decrease of 32,201 hours in the total estimated burden currently identified in the OMB Inventory of Approved ICR Burdens. This decrease is due to a decrease in the number of both large quantity Universal Waste handlers, as well as generators of Mixed Waste, since the last time this ICR was approved.

Dated: November 17, 2004.
Oscar Morales,
Director, Collection Strategies Division.

[FR Doc. 04-26074 Filed 11-23-04; 8:45 am]

BILLING CODE 6560-50-P